DEPARTMENT OF THE INTERIOR

Fish and Wildlife Service

[FWS-HQ-ES-2019-N164; FF09E41000 190 FXES111609C0000; OMB Control Number 1018-New]

Agency Information Collection Activities; Submission to the Office of Management and Budget for Review and Approval; Policy Regarding Voluntary Prelisting Conservation Actions

AGENCY: Fish and Wildlife Service, Interior.

ACTION: Notice of information collection; request for comment.

SUMMARY: In accordance with the Paperwork Reduction Act of 1995, we, the U.S. Fish and Wildlife Service (Service), are proposing a new information collection in use without an OMB Control Number.

DATES: Interested persons are invited to submit comments on or before May 18, 2020.

ADDRESSES: Send written comments on this information collection request to the Office of Management and Budget's Desk Officer for the Department of the Interior by email at OIRA_Submission@omb.eop.gov; or via facsimile to (202) 395-5806. Please provide a copy of your comments to the Service Information Collection Clearance Officer, U.S. Fish and Wildlife Service, MS: PRB (JAO/3W), 5275 Leesburg Pike, Falls Church, VA 22041-3803 (mail); or by email to Info_Coll@fws.gov. Please reference OMB Control Number “1018-VPCA” in the subject line of your comments.

FOR FURTHER INFORMATION CONTACT: Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995 and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On August 9, 2019, we published in the Federal Register (84 FR 39362) a notice of our intent to request that OMB approve this information collection. In that notice, we solicited comments for 60 days, ending on October 8, 2019. We did not receive any comments in response to that notice.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your that your entire comment—including your personal identifying information—may be publicly available at any time. While you can ask us in your comment to withhold your personal identifying information from public review, we cannot guarantee that we will be able to do so.

Abstract: The Service is charged with implementing the Endangered Species Act of 1973, as amended (Act; 16 U.S.C. 1531 et seq.). The goal of the Act is to provide a means to conserve the ecosystems upon which listed species depend and a program for listed species conservation. Through our Candidate Conservation program, we encourage the public to take conservation actions for species prior to them being listed under the Act. Doing so may result in precluding the need to list a species, may result in listing a species as threatened instead of endangered, or, if a species becomes listed, may provide the basis for its recovery and eventual removal from the protections of the Act.

This policy gives landowners, government agencies, and others incentives to carry out voluntary conservation actions for unlisted species. It allows the use of any benefits to the species from voluntary conservation actions undertaken prior to listing under the Act—by the person who undertook such actions or by third parties—to mitigate or offset the detrimental effects of other actions undertaken after listing. The policy requires participating States to track the voluntary conservation actions and provide this information to us on an annual basis. We require this information in order to provide the entities that have taken the conservation actions with proper credit that can later be used to mitigate for any detrimental actions they take after the species is listed.

We plan to collect the following information:

• Description of the prelisting conservation action being taken.

• Location of the action (does not include a specific address).

• Name of the entity taking the action and their contact information (email address only).

• Frequency of the action (ongoing for X years, or one-time implementation) and an indication if the action is included in a State Wildlife Action Plan.

• Any transfer to a third party of the mitigation or compensatory measure rights.

Each State that chooses to participate will collect this information from landowners, businesses and organizations, and Tribal and local governments that wish to receive credit for voluntary prelisting conservation actions. States may collect this information via an Access database, Excel spreadsheet, or other database of their choosing and submit the information to the Fish and Wildlife Service (via email) annually. States will use this information to calculate the number of credits that the entity taking the conservation action will receive and will keep track of the credits and notify the entity of how much credit they have earned. The States will report the number of credits to the Service, and we will determine how many credits are needed by the entity to mitigate or offset the detrimental effects of other actions they take after the species is listed (assuming it is listed).

Title of Collection: Policy Regarding Voluntary Prelisting Conservation Actions.

OMB Control Number: 1018-New.

Form Number: None.

Type of Review: Existing collection in use without an OMB Control Number.

Respondents/Affected Public: Individuals; businesses and organizations; and State, local, and Tribal governments.

Respondent's Obligation: Required to obtain or retain a benefit.

Frequency of Collection: On occasion for new submissions, ongoing for recordkeeping requirements, and annually for reporting requirements.

Total Estimated Annual Nonhour Burden Cost: None.

Requirement | Annual number of respondents | Average number of responses each | Annual number of responses | Average completion time per response (hours) | Estimated annual burden hours *
State Developed Voluntary Conservation-Action Program:
Individuals | 0 | 0 | 0 | 0 | 0
Private Sector | 0 | 0 | 0 | 0 | 0
Government | 1 | 1 | 1 | 320 | 320
Development of Conservation Strategy:
Individuals | 0 | 0 | 0 | 0 | 0
Private Sector | 0 | 0 | 0 | 0 | 0
Government | 1 | 1 | 1 | 200 | 200
Amendments to Conservation Strategy:
Individuals | 0 | 0 | 0 | 0 | 0
Private Sector | 0 | 0 | 0 | 0 | 0
Government | 1 | 1 | 1 | 16 | 16
Credit Agreement/Transfer of Credits:
Individuals | 0 | 0 | 0 | 0 | 0
Private Sector | 0 | 0 | 0 | 0 | 0
Government | 1 | 1 | 1 | 80 | 80
Annual Reports:
Individuals | 0 | 0 | 0 | 0 | 0
Private Sector | 0 | 0 | 0 | 0 | 0
Government | 1 | 1 | 1 | 20 | 20
State Recordkeeping Requirements:
Individuals | 0 | 0 | 0 | 0 | 0
Private Sector | 0 | 0 | 0 | 0 | 0
Government | 1 | 1 | 1 | 240 | 240
State Reports—Voluntary Prelisting Conservation Actions Taken Under Program:
Individuals | 0 | 0 | 0 | 0 | 0
Private Sector | 0 | 0 | 0 | 0 | 0
Government | 1 | 1 | 1 | .25 | 0
Site-Level Agreements:
Individuals | 0 | 0 | 0 | 0 | 0
Private Sector | 0 | 0 | 0 | 0 | 0
Government | 1 | 1 | 1 | 100 | 100
Formal Agreements:
Individuals | 0 | 0 | 0 | 0 | 0
Private Sector | 0 | 0 | 0 | 0 | 0
Government | 1 | 1 | 1 | 4 | 4
Monitoring Reports:
Individuals | 0 | 0 | 0 | 0 | 0
Private Sector | 0 | 0 | 0 | 0 | 0
Government | 1 | 1 | 1 | 24 | 24
Site-Level Reports:
Individuals | 0 | 0 | 0 | 0 | 0
Private Sector | 0 | 0 | 0 | 0 | 0
Government | 1 | 1 | 1 | 24 | 24
Management Plans:
Individuals | 0 | 0 | 0 | 0 | 0
Private Sector | 0 | 0 | 0 | 0 | 0
Government | 1 | 1 | 1 | 120 | 120
Totals: | 12 |  | 12 |  | 1,148
* Rounded to match ROCIS.

An agency may not conduct or sponsor and a person is not required to respond to a collection of information unless it displays a currently valid OMB control number.

The authority for this action is the Paperwork Reduction Act of 1995 (44 U.S.C. 3501 et seq.).

Dated: April 14, 2020.
Madonna Baucum,
Information Collection Clearance Officer,U.S. Fish and Wildlife Service.

[FR Doc. 2020-08121 Filed 4-16-20; 8:45 am]

BILLING CODE 4333-15-P